DEPARTMENT OF HEALTH AND HUMAN SERVICES

National Institutes of Health

Center for Scientific Review; Amended Notice of Meeting

Notice is hereby given of a change in the meeting of the Adult Psychopathology and Disorders of Aging Study Section, October 17, 2013, 08:00 a.m. to October 18, 2013, 05:00 p.m., Crystal City Marriott, 1999 Jefferson Davis Highway, Arlington, VA 22202 which was published in the Federal Register on September 23, 2013, 78 FR 58324.

The meeting will be held at the National Institutes of Health, 6701 Rockledge Drive, Bethesda, MD 20892. The meeting will start on December 4, 2013 at 09:00 a.m. and end on December 5, 2013 at 03:00 p.m. The meeting is closed to the public.

Dated: October 25, 2013.
Carolyn A. Baum,
Program Analyst, Office of Federal Advisory Committee Policy.

[FR Doc. 2013-25676 Filed 10-29-13; 8:45 am]

BILLING CODE 4140-01-P